DEPARTMENT OF THE INTERIOR

National Park Service

[NPS-WASO-CR-23588; PPWOCRADI0, PCU00RP14.R50000]

Agency Information Collection Activities: Archeology Permits and Reports

AGENCY: National Park Service, Interior.

ACTION: Notice; request for comments.

SUMMARY: We (National Park Service, NPS) have sent an Information Collection Request (ICR) to OMB for review and approval that includes establishment of a common form. The NPS will be the “host agency” of the common form. Other agencies that may use the information collection are listed below. We summarize the ICR below and describe the nature of the collection and the estimated burden and cost. This information collection is scheduled to expire on July 31, 2017. We may not conduct or sponsor and a person is not required to respond to a collection of information unless it displays a currently valid OMB control number. However, under OMB regulations, we may continue to conduct or sponsor this information collection while it is pending at OMB.

DATES: You must submit comments on or before August 21, 2017.

ADDRESSES: Send your comments and suggestions on this information collection to the Desk Officer for the Department of the Interior at OMB-OIRA at (202) 395-5806 (fax) or OIRA_Submission@omb.eop.gov (email). Please provide a copy of your comments to Tim Goddard, Information Collection Clearance Officer, National Park Service, 12201 Sunrise Valley Drive, MS-242, Reston, VA 20192 (mail); or tim_goddard@nps.gov (email). Please include “1024-0037” in the subject line of your comments.

FOR FURTHER INFORMATION CONTACT: To request additional information about this ICR, contact Karen Mudar at Karen_Mudar@nps.gov (email) or 202-354-2103 (telephone). You may review the ICR online at http://www.reginfo.gov. Follow the instructions to review Department of the Interior collections under review by OMB.

I. Abstract

Section 4 of the Archeological Resources Protection Act (ARPA) of 1979 (16 U.S.C 470cc), and Section 3 of the Antiquities Act (AA) of 1906 (54 U.S.C. 320301-320303), authorize any individual or institution to apply to Federal land managing agencies to scientifically excavate or remove archeological resources from public or Indian lands. Archeological investigations that require permits include excavation, shovel-testing, coring, pedestrian survey (with and without removal of artifacts), underwater archeology, photogrammetry, and rock art documentation. Individuals, academic and scientific institutions, museums, and businesses that propose to conduct archeological field investigations must obtain a permit before the project may begin.

To apply for a permit, applicants submit DI Form 1926 (Application for Permit for Archeological Investigations). In general, an application includes, but is not limited to, the following information:

Statement of Work.

Statement of Applicant's Capabilities.

Statement of Applicant's Past Performance.

Curriculum vitae for Principal Investigator(s) and Project Director(s).

Written consent by State or tribal authorities to undertake the activity on State or tribal lands that are managed by Federal land managing agencies, if required by the State or tribe.

Curation Authorization.

Detailed Schedule of All Project Activities.

Persons receiving a permit must submit a final report upon completion of the field component of the research project.

Potential and actual other agencies, besides NPS, that may use the common form and this collection include:

U.S. Department of Agriculture

U.S. Forest Service

U.S. Department of Commerce

National Oceanic and Atmospheric Administration

U.S. Department of Defense

Department of the Air Force

Department of the Army

U.S. Army Corps of Engineers

Department of the Navy

United States Marine Corps

U.S. Coast Guard

Army National Guard

U.S. Department of Energy

U.S. Department of Health and Human Services

U.S. Department of Homeland Security

Bureau of Customs and Border

Protection Federal Emergency

Management Agency

U.S. Department of Housing and Urban Development

U.S. Department of the Interior

Bureau of Indian Affairs

Bureau of Land Management

Bureau of Reclamation

U.S. Fish and Wildlife Service

Bureau of Ocean Energy Management

Office of Surface Mining

U.S. Geological Survey

U.S. Department of Justice

Bureau of Prisons

U.S. Department of Transportation

Federal Aviation Administration

Federal Highway Administration

Federal Railroad Administration

Federal Transit Administration

U.S. Department of Veterans Affairs

Other Agencies

General Services Administration

National Aeronautics and Space Administration

Tennessee Valley Authority

The Presidio Trust of San Francisco

II. Data

OMB Control Number: 1024-0037.

Title: Archeology Permit Applications and Reports, 43 CFR parts 3 and 7.

Form Number(s): DI Form 1926.

Type of Request: Extension of a currently approved collection.

Description of Respondents: Individuals or organizations wishing to excavate or remove archeological resources from public or Indian lands.

Respondent's Obligation: Required to obtain or retain a benefit.

Number of Respondents: 100.

Frequency of Collection: On occasion.

Activity | Total annual responses | Completion time per response (hours) | Total annual burden hours | Total dollar value of annual burden hours ($50.78 per hour)
Form DI-1926, “Application for Permit for Archeological Investigations”:
Private | 43 | 2.5 | * 108 | $5,484.24
Individual | 1 | 2.5 | * 3 | 152.34
Government | 6 | 2.5 | 15 | 761.70
Reports
Private | 43 | 1.0 | 43 | 2,183.54
Individual | 1 | 1.0 | 1 | 50.78
Government | 6 | 1.0 | 6 | 304.68
Totals | 100 |  | * 176 | 8,937.28
* Rounded by ROCIS.

Estimated Annual Nonhour Burden Cost: None.

III. Comments

On December 19, 2016, we published a Federal Register Notice (81 FR 91945) informing the public of our intent to ask OMB to renew approval for this information collection. We solicited comments for a period of 60 days, ending on February 17, 2017. We did not receive any comments in response to this notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Authority: The authorities for this action are the National Park Service Organic Act of 1916 (54 U.S.C. 100101 et seq.; P.L. 113-287) and the Paperwork Reduction Act of 1995 (44 U.S.C. 3501 et seq.).

Timothy Goddard,
Information Collection Clearance Officer, National Park Service.

[FR Doc. 2017-15227 Filed 7-19-17; 8:45 am]

BILLING CODE 4312-52-P